DEPARTMENT OF COMMERCE

International Trade Administration

North American Free Trade Agreement (NAFTA), Binational Panel Reviews: Notice of Completion of Panel Review

AGENCY: United States Section, NAFTA Secretariat, International Trade Administration, Department of Commerce

ACTION: Notice of Completion of Panel Review in the matter of 100- to 150-Seat Large Civil Aircraft from Canada: Final Affirmative Determination of Sales at Less Than Fair Value (Secretariat File Number: USA-CDA-2018-1904-02).

SUMMARY: The NAFTA Secretariat has received motions filed on behalf of Bombardier, Inc. and C Series Aircraft Limited Partnership, the government of Canada, the U.S. Department of Commerce, and The Boeing Company, requesting the termination of panel review in the 100- to 150-Seat Large Civil Aircraft from Canada: Affirmative Determination of Sales at Less Than Fair Value (Civil Aircraft AD) dispute.

Given all the participants have filed motions requesting termination and pursuant to Rule 71(2) of the NAFTA Rules of Procedure for Article 1904 Binational Panel Reviews (Rules), the NAFTA Civil Aircraft AD dispute has been terminated.

As a result, and in accordance with Rule 78(a), notice is hereby given that panel review of the NAFTA Civil Aircraft AD dispute has been completed applicable May 2, 2018.

FOR FURTHER INFORMATION CONTACT: Paul E. Morris, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Paul E. Morris,
U.S. Secretary, NAFTA Secretariat.

[FR Doc. 2018-10228 Filed 5-14-18; 8:45 am]

BILLING CODE 3510-GT-P